ENVIRONMENTAL PROTECTION AGENCY

[EPA-HQ-OPPT-2003-0006; FRL-8078-7]

TSCA Chemical Testing; Receipt of Test Data

AGENCY: Environmental Protection Agency (EPA).

ACTION: Notice.

SUMMARY: This notice announces EPA's receipt of test data on In Vitro Dermal Absorption Rate Testing of certain chemicals of interest to the Occupational Safety and Health Administration (OSHA). EPA received data on the following chemicals: Dipropylene glycol methyl ether (DPGME) (CAS No. 34590-94-8); naphthalene (CAS No. 91-20-3); diphenylamine (DPA) (CAS No. 122-39-4); 1-nitropropane (CAS No. 108-03-2); 2-nitropropane (CAS No. 79-46-9); isophorone (CAS No. 78-59-1); p-nitrochlorobenzene (CAS No. 100-00-5); and benzyl chloride (CAS No. 100-44-7). These data were submitted pursuant to a test rule issued by EPA under section 4 of the Toxic Substances Control Act (TSCA).

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. This action may, however, be of interest to those persons who are concerned about data on health and/or environmental effects and other characteristics of this chemical. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2003-0006. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr/.

II. Test Data Submissions

Section 4(d) of TSCA requires EPA to publish a notice in the Federal Register reporting the receipt of test data submitted pursuant to test rules promulgated under section 4(a) within 15 days after these data are received by EPA.

1. Test data for DPGME were submitted by the DPGME Dermal Absorption Task Group of the American Chemistry Council's Ethylene and Propylene Glycol Ethers Panel and received by EPA on February 22, 2006. The submission includes a final report titled “Dipropylene Glycol Methyl Ether: In Vitro Dermal Absorption Rate Testing”. (See Document ID No. EPA-HQ-OPPT-2003-0006-0325).

2. Test data for naphthalene were submitted on behalf of the American Chemistry Council Naphthalene Panel's In Vitro Dermal Absorption Rate Testing Consortium and received by EPA on March 20, 2006. The submission includes a final report titled “Naphthalene: In Vitro Dermal Absorption Rate Testing.” (See Document ID No. EPA-HQ-OPPT-2003-0006-0328).

3. Test data for DPA were submitted by Chemtura Corporation and received by EPA on March 29, 2006. The submission includes a final report titled “Determination of the In Vitro Absorption Rate of Diphenylamine.” (See Document ID No. EPA-HQ-OPPT-2003-0006-0330).

4. Test data for 1-nitropropane were submitted by the Angus Chemical Company, a wholly owned subsidiary of the Dow Chemical Company, and received by EPA on October 13, 2005. The submission includes a final report titled “1-Nitropropane: In Vitro Dermal Absorption Rate Testing.” (See Document ID No. EPA-HQ-OPPT-2003-0006-0343).

5. Test data for 2-nitropropane were submitted by the Angus Chemical Company, a wholly owned subsidiary of the Dow Chemical Company, and received by EPA on October 13, 2005. The submission includes a final report titled “2-Nitropropane: In Vitro Dermal Absorption Rate Testing.” (See Document ID No. EPA-HQ-OPPT-2003-0006-0344).

6. Test data for isophorone were submitted by the Isophorone Dermal Absorption Task Group of the American Chemistry Council and received by EPA on February 14, 2006. An amended report was also received by EPA on April 17, 2006. The submissions include an original and amended final study report titled: “Percutaneous Absorption and Cutaneous Disposition of [¹⁴C]-Isophorone In Vitro in Human Skin.” (See Document ID No. EPA-HQ-OPPT-2003-0006-0346).

7. Test data for p-nitrochlorobenzene were submitted by ATK Thiokol and received by EPA on May 25, 2006. The submission includes a final study report titled: “p-Nitrochlorobenzene: In Vitro Dermal Absorption Rate Testing.“ (See Document ID No. EPA-HQ-OPPT-2003-0006-0351).

8. Test data for benzyl chloride were submitted by LANXESS Corporation and Ferro Corporation and received by EPA on May 30, 2006. The submission includes a final study report titled: “Benzyl Chloride: In Vitro Dermal Absorption Rate Testing.” (See Document ID No. EPA-HQ-OPPT-2003-0006-0352).

These chemical substances are used in a wide variety of applications as industrial solvents, which may result in exposures of a substantial number of workers as described in the support document for the proposed rule (64 FR 31074, June 9, 1999, Table 3-Exposure Information for Chemical Substances).

EPA has initiated its review and evaluation process for these submissions. At this time, the Agency is unable to provide any determination as to the completeness of these submissions.

Authority: 15 U.S.C. 2603.

List of Subjects

Environmental protection, Hazardous substances.

Dated: July 20, 2006.
James Willis,
Director, Chemical Control Division, Office of Pollution Prevention and Toxics.

[FR Doc. E6-12340 Filed 8-1-06; 8:45 am]

BILLING CODE 6560-50-S